DEPARTMENT OF COMMERCE

National Oceanic and Atmospheric Administration

Evaluation of National Estuarine Research Reserve; Notice of Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold a virtual public meeting to solicit input on the performance evaluation of the Jacques Cousteau National Estuarine Research Reserve (JCNERR). NOAA also invites the public to submit written comments.

DATES: NOAA will hold a virtual public meeting at 12 p.m. noon Eastern Standard Time (EST) on Monday, February 24, 2025. NOAA may close the meeting 10 minutes after the conclusion of public testimony and after responding to any clarifying questions from hearing participants. NOAA will consider all relevant written comments received by Friday, March 7, 2025.

ADDRESSES: Comments may be submitted by one of the following methods:

• Virtual Public Meeting: Provide oral comments during the virtual public meeting on Monday, February 24, 2025, from 12 p.m. to 1 p.m. EST, by registering as a speaker at https://forms.gle/rE9QDjpfcMxoezP49. Please register by Monday, February 24, 2025, at 8 a.m. EST. Upon registration, NOAA will send a confirmation email. The speaker lineup is based on the date and time of this registration. One hour prior to the start of the Monday, February 24, 2025 virtual meeting, NOAA will send an email to all registered speakers with the public meeting link and information about participating. While advance registration is requested, registration will remain open until the meeting closes, and any participant may provide oral comment after the registered speakers conclude. Meeting registrants may remain anonymous by typing “Anonymous” into the “First Name” and “Last Name” fields on the registration form.

• Email: Send written comments to Carrie Hall, Evaluator, NOAA Office for Coastal Management, at czma.evaluations@noaa.gov. Include “Comments on Performance Evaluation of Jacques Cousteau National Estuarine Research Reserve” in the subject line. NOAA will accept anonymous comments; however, the written comments NOAA receives are considered part of the public record, and the entirety of the comment, including the name of the commenter, email address, attachments, and other supporting materials, will be publicly accessible. Sensitive personally identifiable information, such as account numbers and Social Security numbers, should not be included with the comments. Comments that are not related to the performance evaluation of JCNERR or that contain profanity, vulgarity, threats, or other inappropriate language will not be considered.

FOR FURTHER INFORMATION CONTACT: Carrie Hall, Evaluator, NOAA Office for Coastal Management, by email at Carrie.Hall@noaa.gov or by phone at (240) 410-3422. Copies of the previous evaluation findings, reserve management plan, and reserve site profile may be viewed and downloaded at https://coast.noaa.gov/czm/evaluations/. A copy of the evaluation notification letter and most recent progress report may be obtained upon request by contacting Carrie Hall.

SUPPLEMENTARY INFORMATION: Section 315(f) of the Coastal Zone Management Act (CZMA) requires NOAA to conduct periodic evaluations of federally approved national estuarine research reserves. The evaluation process includes holding one or more public meetings, considering public comments, and consulting with interested federal, state, and local agencies and members of the public. During the evaluation, NOAA will consider the extent to which the State of New Jersey has met the national objectives and has adhered to the management plan approved by the Secretary of Commerce, the requirements of Section 315(b)(2) of the CZMA, and the terms of financial assistance under the CZMA. When the evaluation is complete, NOAA's Office for Coastal Management will place a notice in the Federal Register announcing the availability of the final evaluation findings.

Authority: 16 U.S.C. 1461

Keelin Kuipers,
Deputy Director, Office for Coastal Management, National Ocean Service, National Oceanic and Atmospheric Administration.

[FR Doc. 2024-30481 Filed 12-19-24; 8:45 am]

BILLING CODE 3510-08-P